EQUAL EMPLOYMENT OPPORTUNITY COMMISSION

Agency Information Collection Activities: Proposed Collection; Submission for OMB Review

AGENCY: Equal Employment Opportunity Commission.

ACTION: Final notice of submission for OMB review—Extension with change: State and Local Government Information Report (EEO-4).

SUMMARY: In accordance with the Paperwork Reduction Act (PRA), the Equal Employment Opportunity Commission (EEOC or Commission) hereby gives notice that it has submitted to the Office of Management and Budget (OMB) a request for a three-year extension with change of the State and Local Government Information Report (EEO-4). The EEOC is proposing revisions to the race and ethnicity categories on the EEO-4 report to conform to OMB's Revisions to the Standards for the Classification of Federal Data on Race and Ethnicity (October 30, 1997) (Revised Standards), as applied in OMB Bulletin No. 00-02, Guidance on Aggregation and Allocation of Data on Race for Use in Civil Rights Monitoring and Enforcement (March 9, 2000).

DATES: Written comments on this notice must be submitted on or before February 19, 2015.

ADDRESSES: A copy of this ICR and applicable supporting documentation submitted to OMB for this review may be obtained from: Ronald Edwards, Director, Program Research and Surveys Division, Equal Employment Opportunity Commission, 131 M Street NE., Room 4SW30F, Washington, DC 20507. Comments on this final notice must be submitted to Chad A. Lallemand, Office of Information and Regulatory Affairs, Office of Management and Budget, 725 17th Street NW., Room 10235, New Executive Office Building, Washington, DC 20503 or electronically mailed to Chad_A._Lallemand@omb.eop.gov. Copies of comments should be sent to Bernadette Wilson, Acting Executive Officer, Executive Secretariat, Equal Employment Opportunity Commission, 131 M Street NE., Washington, DC 20507. As a convenience to commenters, the Executive Secretariat will accept comments totaling six or fewer pages by facsimile (“FAX”) machine. This limitation is necessary to assure access to the equipment. The telephone number of the fax receiver is (202) 663-4114. (This is not a toll-free number). Receipt of FAX transmittals will not be acknowledged, except that the sender may request confirmation of receipt by calling the Executive Secretariat staff at (202) 663-4070 (voice) or (202) 663-4074 (TTY). (These are not toll-free telephone numbers.) Instead of sending written comments to EEOC, you may submit comments and attachments electronically at http://www.regulations.gov, which is the Federal eRulemaking Portal. Follow the instructions online for submitting comments. All comments received through this portal will be posted without change, including any personal information you provide. Copies of comments submitted by the public to EEOC directly or through the Federal eRulemaking Portal will be available for review, by advance appointment only, at the Commission's library between the hours of 9:00 a.m. and 5:00 p.m. Eastern Time or can be reviewed at http://www.regulations.gov. To schedule an appointment to inspect the comments at EEOC's library, contact the library staff at (202) 663-4630 (voice) or (202) 663-4641 (TTY). (These are not toll-free numbers.)

FOR FURTHER INFORMATION CONTACT: Ronald Edwards, Director, Program Research and Surveys Division, Equal Employment Opportunity Commission, 131 M Street NE., Room 4SW30F, Washington, DC 20507; (202) 663-4949 (voice) or (202) 663-7063 (TTY). Requests for this notice in an alternative format should be made to the Office of Communications and Legislative Affairs at (202) 663-4191 (voice) or (202) 663-4494 (TTY).

SUPPLEMENTARY INFORMATION: The EEOC has collected information from state and local governments with 100 or more full-time employees since 1974. The Commission is proposing revisions to the EEO-4 report to conform with OMB's Revisions to the Standards for the Classification of Federal Data on Race and Ethnicity (October 30, 1997) (Revised Standards), as applied in OMB Bulletin No. 00-02, Guidance on Aggregation and Allocation of Data on Race for Use in Civil Rights Monitoring and Enforcement (March 9, 2000). The revisions to the EEO-4 report, Form 164, include the following race and ethnicity categories: Hispanic or Latino; White; Black or African American; Asian; Native Hawaiian or Other Pacific Islander; American Indian or Alaska Native; and Two or More Races.

A notice that EEOC would be submitting this request was published in the Federal Register on August 27, 2014 allowing for a 60-day public comment period. There were no comments received from the public.

Overview of Current Information Collection

Collection Title: State and Local Government Information Report (EEO-4).

OMB—Number: 3046-0008.

Frequency of Report: Biennial.

Type of Respondent: State and local government jurisdictions with 100 or more employees.

Description of Affected Public: State and local governments excluding elementary and secondary public school districts.

Number of Responses: 12,458.

Reporting Hours: 89,188.

Cost Burden: $21,600,000.

Number of Forms: 1.

Form Number: EEOC FORM 164.

Federal Cost: $226,549.

ABSTRACT: Section 709(c) of Title VII of the Civil Rights Act of 1964, as amended, 42 U.S.C. 2000e-8(c), requires employers to make and keep records relevant to a determination of whether unlawful employment practices have been or are being committed, to preserve such records and to produce reports as the Commission prescribes by regulation or order. Accordingly, the EEOC issued regulations at 29 CFR 1602.32-1602.37 prescribing the reporting requirements for State and local governments. State and local governments with 100 or more employees have been required to submit EEO-4 reports since 1974 (biennially in odd-numbered years since 1993). The individual reports are confidential.

EEO-4 data are used by the EEOC to investigate charges of discrimination against state and local governments and to provide information on the employment status of minorities and women. The data are shared with several other Federal agencies. Pursuant to section 709(d) of Title VII of the Civil Rights Act of 1964, 42 U.S.C. 2000e-8(d), as amended, EEO-4 data are shared with State and Local Fair Employment Practices Agencies (FEPAs). Aggregated data are also used by researchers and the general public.

Burden Statement: The estimated number of respondents included in the EEO-4 survey is 9,000 state and local governments. (These 9,000 jurisdictions file about 12,458 reports based on the 2011 filing of the EEO-4.) Reports exceed jurisdictions due to the requirement for some to file separate reports by function. The changes discussed herein will increase respondent burden hours from 73,185 to 89,188 and EEOC costs from $187,500 to $226,549. The burden per report will be 7.16 hours.

Estimated burden hours were calculated by multiplying the number of reports expected to be filed annually (12,458 in 2011) by the estimated average time to complete and submit each report (7.16 hours).

These burden estimates are largely based on an assumption of paper reporting. However, the EEOC has made electronic filing much easier for employers required to file the EEO-4 Report. As a result, more jurisdictions are using this filing method. This development, along with the greater availability of human resource information software, is expected to have significantly reduced the actual burden of reporting, but empirical data in this area is lacking. Accordingly, efforts will be undertaken by the Commission to (1) develop more reliable estimates of reporting burdens given the significant increase in electronic filing and (2) to implement new approaches to make such reporting even less burdensome.

The other new burden is the one-time cost of employers changing the manner in which they collect and store the new race and ethnicity changes as well as changes to computer programs and systems. There will be no cost for employers whose current systems are already designed to handle the full multiple race and ethnicity classifications, and we estimate that about ten percent of employers currently have this ability. The estimated cost for employers that will have to re-survey the workforce to comply with the new race and ethnicity changes is $21,600,000.

Dated: January 9, 2015.
For the Commission.
Jenny R. Yang,
Chair.

[FR Doc. 2015-00736 Filed 1-16-15; 8:45 am]

BILLING CODE 6570-01-P